DEPARTMENT OF TRANSPORTATION

Coast Guard

33 CFR Part 117

[CGD07-01-034]

RIN 2115-AE47

Drawbridge Operation Regulations: Atlantic Intracoastal Waterway, Fort Lauderdale, Broward County, FL

AGENCY: Coast Guard, DOT.

ACTION: Temporary final rule.

SUMMARY: The Coast Guard is temporarily modifying the regulations governing the operation of the East Sunrise Boulevard and East Las Olas Drawbridges across the Atlantic Intracoastal Waterway, mile 1062.6 and 1064, in Fort Lauderdale, Florida. This temporary rule allows the East Sunrise Boulevard and East Las Olas Drawbridges to remain closed for periods of time on May 5 and May 6, 2001 to facilitate the vehicle traffic flow from the 2001 Air & Sea Show.

DATES: This rule is effective from 4 p.m. on May 5, 2001 until 6 p.m. on May 6, 2001.

ADDRESSES: Material received from the public as well as documents indicated in this preamble as being available in the docket are part of docket [CGD07-01-034] and are available for inspection or copying at Commander (oan), Seventh Coast Guard District, 909 S.E. 1st Avenue, Miami, Florida 33131 between 7:30 a.m. and 4 p.m., Monday through Friday, except Federal holidays.

FOR FURTHER INFORMATION CONTACT: Mr. Michael Lieberum, Project Officer, Seventh Coast Guard District, Bridge Section, at (305) 536-7331.

SUPPLEMENTARY INFORMATION:

Regulatory Information

We did not publish a notice of proposed rulemaking (NPRM) for this regulation. Under 5 U.S.C. 553(b)(B), the Coast Guard finds that good cause exists for not publishing an NPRM. Publishing an NPRM was impracticable and contrary to the public interest. There was insufficient time remaining to publish an NPRM after we were notified of the required closure, and further delaying the event to follow normal rulemaking procedures before incorporating this important safety measure would have a significant negative affect on the outcome of this annual, highly-attended event.

For the same reasons, under 5 U.S.C. 553(d)(3), the Coast Guard finds that good cause exists for making this rule effective less than 30 days after publication in the Federal Register.

Background and Purpose

The East Las Olas Boulevard Drawbridge, mile 1064.0, across the Atlantic Intracoastal Waterway, has a vertical clearance of 31 feet above mean high water and a horizontal clearance of 91 feet between fenders. The existing operating regulations in 33 CFR 117.5 require the bridge to open promptly and fully for the passage of vessels when a request to open is given.

The East Sunrise Boulevard Drawbridge, mile 1062.6, across the Atlantic Intracoastal Waterway, has a vertical clearance of 25 feet at mean high water and a horizontal clearance of 90 feet between fenders. The existing operating regulations in 33 CFR 117.261(gg) require the bridge to open on signal; except that from November 15 to May 15, from 10 a.m. to 6 p.m., the draw need open only on the hour, quarter-hour, half-hour and three-quarter hour.

The City of Fort Lauderdale Police Department recently requested that the Coast Guard temporarily change the operating regulations for both drawbridges during parts of the 2001 Air and Sea Show to allow the considerable amounts of vehicular and pedestrian traffic be moved away from the beach as safely and quickly as possible. These temporary changes to the drawbridges operating regulations will allow the draws of the East Sunrise Boulevard and East Las Olas Boulevard drawbridges in Fort Lauderdale, Florida, to remain closed from 4 p.m. to 6 p.m. and 9:45 p.m. to 10:45 p.m. on May 5, 2001, and from 4 p.m. to 6 p.m. on May 6, 2001. Except that, the East Sunrise Boulevard drawbridge may open at 4:45 p.m. and 5:30 p.m. each day, and the East Las Olas Boulevard drawbridge may open at 4:30 p.m. and 5:15 p.m. each day on May 5 and 6, 2001.

Regulatory Evaluation

This proposal is not a “significant regulatory action” under section 3(f) of Executive Order 12866 and does not require an assessment of potential costs and benefits under section 6(a)(3) of that order. The Office of Management and Budget has not reviewed it under that order. It is not “significant” under the regulatory policies and procedures of the Department of Transportation (DOT)(44 FR 11040:February 26, 1979). The Coast Guard expects the economic impact of this rule to be so minimal that a full Regulatory Evaluation under paragraph 10(e) of the regulatory policies and procedures of DOT is unnecessary. The changes to the bridge's operating schedules will only be in effect for five total hours over a two-day period. Further, the temporary schedules still allow for some scheduled openings, albeit at reduced intervals.

Small Entities

Under the Regulatory Flexibility Act (5 U.S.C. 601-612), the Coast Guard must consider whether this rule will have a significant economic effect upon a substantial number of small entities. “Small entities” include small business, not-for-profit organizations that are independently owned and operated and are not dominant in their fields, and governmental jurisdictions with populations of less than 50,000.

The Coast Guard certifies under 5 U.S.C. 605(b) that this rule will not have a significant economic impact on a substantial number of small entities as the regulations will only be in effect for five total hours over a two day period and the event will be highly publicized.

Assistance for Small Entities

Under section 213(a) of the Small Business Regulatory Enforcement Fairness Act of 1996 (Public Law 104-221), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501-3520).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Environment

The Coast Guard has considered the environmental impact of this action and has determined under figure 2-1, paragraph 32(e) of Commandant Instruction M16475.1C, that this rule is categorically excluded from further environmental documentation.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

List of Subjects in 33 CFR Part 117

Bridges.

For the reasons discussed in the preamble, The Coast Guard amends 33 CFR part 117 as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. From 4 p.m. on May 5, 2001, through 6 p.m. on May 6, 2001, in § 117.261, temporarily suspend paragraph (gg) and add temporary paragraphs (ww) and (xx) to read as follows:

§ 117.261 Atlantic Intracoastal Waterway from St. Marys River to Key Largo.

* * * * *

(ww) East Las Olas Bridge, mile 1064 at Fort Lauderdale. The draw shall open on signal except that on May 5 and 6, 2001, from 4 p.m. to 6 p.m. each day, the draw need only open at 4:30 p.m. and 5:15 p.m., and from 9:45 to 10:45 p.m. on May 5, 2001, the draw need not open.

(xx) East Sunrise Boulevard Bridge (SR 838), mile 1062.6 at Fort Lauderdale. The draw shall open on signal except that from 4 p.m. to 6 p.m. each day on May 5 and 6, 2001, the draw need only open at 4:45 p.m. and 5:30 p.m., and from 9:45 p.m. to 10:45 p.m. on May 5, 2001, the draw need not open.

Dated: April 27, 2001.
G.W. Sutton,
Captain, U.S. Coast Guard, Acting Commander, Seventh Coast Guard District.

[FR Doc. 01-11495 Filed 5-7-01; 8:45 am]

BILLING CODE 4910-15-U